DEPARTMENT OF HOMELAND SECURITY

Coast Guard

33 CFR Part 117

[Docket No. USCG-2008-0117]

RIN 1625-AA09

Drawbridge Operation Regulation; Gulf Intracoastal Waterway, Bradenton Beach, FL, Schedule Change

AGENCY: Coast Guard, DHS.

ACTION: Temporary rule.

SUMMARY: The Coast Guard is changing the operating regulations governing the Cortez bridge mile 87.4 and the Anna Maria bridge mile 89.2 across the Gulf Intracoastal Waterway to allow for the rehabilitation of the Anna Maria Bridge. This rule will allow each bridge to open on a twice an hour schedule, except that they will be closed to navigation in the evening; also each bridge will open once every hour during the 45 day vehicle closure period on the Anna Maria Bridge. This action is necessary for worker safety and will assist in expediting the rehabilitation of the Anna Maria Bridge.

DATES: This temporary final rule is effective from 7 a.m. March 15, 2008 through 7 p.m. December 31, 2008.

ADDRESSES: Documents indicated in this preamble as being available in the docket are part of docket USCG-2008-0117 and are available online at www.regulations.gov. They are also available for inspection or copying at two locations: the Docket Management Facility (M-30), U.S. Department of Transportation, West Building Ground Floor, Room W12-140, 1200 New Jersey Avenue, SE., Washington, DC 20590, between 9 a.m. and 5 p.m., Monday through Friday, except Federal holidays, and Commander (dpb), Seventh Coast Guard District, 909 SE. 1st Avenue, Room 432, Miami, Florida 33131-3028 between 8 a.m. and 4:30 p.m., Monday through Friday, except Federal holidays.

FOR FURTHER INFORMATION CONTACT: If you have questions on this rule, call Mr. Michael Lieberum, Bridge Branch, Seventh Coast Guard District, at 305-415-6744. If you have questions on viewing the docket, call Renee V. Wright, Program Manager, Docket Operations, telephone 202-366-9826.

SUPPLEMENTARY INFORMATION:

Regulatory Information

We did not publish a notice of proposed rulemaking (NPRM) for this regulation. Under 5 U.S.C. 553(b)(B), the Coast Guard finds that good cause exists for not publishing an NPRM. The final pre-construction and construction schedule were not provided to the Coast Guard with sufficient time to publish an NPRM and receive public comment before work began. The mayors of the surrounding cities, in coordination with the bridge owner, the contractor and local marinas in the area provided the Coast Guard with a finalized work schedule and suggested change in the bridges operations that would best serve the concerns of the surrounding communities and the contractor. In addition, the communities in the vicinity of the Anna Maria and Cortez bridges were informed of the bridge rehabilitation and proposed restrictions through the use of the local media. Furthermore this regulation is necessary for workers safety and will assist in expediting the rehabilitation of the Anna Maria Bridge. Therefore publishing an NPRM and delaying the start date of the rehabilitation project is contrary to the public interest and unnecessary.

Under 5 U.S.C. 553(d)(3), for the same reasons articulated in the preceding paragraph, the Coast Guard finds that good cause exists for making this rule effective in less than 30 days after publication in the Federal Register.

Background and Purpose

Due to the planned extensive rehabilitation of the Anna Maria Bridge across the Gulf Intracoastal Waterway mile 89.2, Bradenton Beach, Florida, the contractor requested that the Coast Guard change the current operation of the Anna Maria Bridge and the Cortez Bridge. The contractor also advised that it was necessary to start preparatory work as soon as possible in order to complete some of the work prior to the scheduled 45 days closure period to vehicular traffic. The Anna Maria Bridge would be closed to vehicle traffic for 45 days starting on September 29, 2008 and all vehicle traffic would be detoured to the Cortez Bridge across the Gulf Intracoastal Waterway mile 87.4, Bradenton Beach, Florida. The mayors of the surrounding cities requested a meeting with all concerned to discuss alternative solutions to alleviate possible vehicle traffic problems that could disrupt the flow of vehicles transiting to and from Anna Maria Island. The meeting sponsored by the local mayors was and held on November 28, 2007, and allowed the Coast Guard to hear the concerns of the mayors and the School Board which assisted in drafting this temporary rule.

The current operating regulation for the Cortez Bridge 33 CFR 117.287(d)(1) states: Cortez (SR 684) Bridge, mile 87.4. The draw shall open on signal, except that from 6 a.m. to 7 p.m., the draw need only open on the hour, 20 minutes after the hour and forty minutes after the hour. From January 15 to May 15, from 6 a.m. to 7 p.m., the draw need only open on the hour and half-hour.

The current operating regulation for the Anna Maria Bridge 33 CFR 117.287(d)(2) states: Anna Maria (SR 64) (Manatee Avenue West) Bridge, mile 89.2. The draw shall open on signal, except that from 6 a.m. to 7 p.m., the draw need only open on the hour, 20 minutes after the hour and forty minutes after the hour. From January 15 to May 15, from 6 a.m. to 7 p.m., the draw need only open on the hour and half-hour.

Based on the information received, the Coast Guard is changing the regulations for these bridges so that they will remain on a twice an hour schedule throughout the length of the rehabilitation, except they will be closed to navigation in the evening and will open once an hour during the day during the 45 day vehicle closure period. This action is necessary to assist the local communities' vehicle traffic flow and the contractor in completing the scheduled work in a timely manner.

Regulatory Evaluation

This rule is not a “significant regulatory action” under section 3(f) of Executive Order 12866, Regulatory Planning and Review, and does not require an assessment of potential costs and benefits under section 6(a)(3) of that Order. The Office of Management and Budget has not reviewed it under that Order. The major impact of this rulemaking will occur during the off season so as to have the least impact on the local communities. Additionally, there is an alternate route available for the majority of vessels to avoid the construction area.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities. This action will not have a significant economic impact on a substantial number of small entities as there is an alternate route available for the majority of vessels to avoid the construction area.

Assistance for Small Entities

Under section 213(a) of the Small Business Regulatory Enforcement Fairness Act of 1996 (Pub. L. 104-121), we offer to assist small entities in understanding the rule so that they can better evaluate its effects on them and participate in the rulemaking process. Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in this preamble.

Taking of Private Property

This rule will not affect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and would not create an environmental risk to health or risk to safety that might disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

Environment

We have analyzed this rule under Commandant Instruction M16475.lD which guides the Coast Guard in complying with the National Environmental Policy Act of 1969 (NEPA) (42 U.S.C. 4321-4370f), and have concluded that there are no factors in this case that would limit the use of a categorical exclusion under section 2.B.2 of the Instruction. Therefore, this rule is categorically excluded, under figure 2.1, paragraph (32)(e) of the Instruction, from further environmental documentation.

Under figures 2-1, paragraph (32)(e), of the Instruction, an “Environmental Analysis Check List” and a “Categorical Exclusion Determination” are not required for this rule.

List of Subjects in 33 CFR Part 117

Bridges.

For the reasons discussed in the preamble, the Coast Guard amends 33 CFR part 117 as follows:

PART 117—DRAWBRIDGE OPERATION REGULATIONS

1. The authority citation for part 117 continues to read as follows:

Authority: 33 U.S.C. 499; 33 CFR 1.05-1; Department of Homeland Security Delegation No. 0170.1.

2. From 7 a.m. on March 15, 2008, through 7 p.m. on December 31, 2008, § 117.287(d)(1) and § 117.287(d)(2) are temporarily suspended and temporary § 117.287(d)(5) and temporary § 117.287(d)(6) are added to read as follows:

§ 117.287 Gulf Intracoastal Waterway.

(d)(5) Cortez (SR 684) Bridge, mile 87.4. The draw shall open on signal; except that from 6 a.m. to 7 p.m., the draw shall open on the hour and half-hour.

From September 29, 2008 to November 13, 2008, the Cortez Bridge will remain closed to navigation from 5:35 a.m. to 9:25 a.m., 1:35 p.m. to 4:25 p.m. and 8 p.m. to 4:25 a.m. At all other times, this bridge will open once an hour on the bottom of the hour.

(6) The Anna Maria (SR 64) (Manatee Avenue West) Bridge, mile 89.2. The draw shall open a single-leaf on signal; except that from 6 a.m. to 7 p.m., the draw shall open on the hour and half-hour. A double-leaf opening will be available with a one-hour notice to the bridge tender. From September 29, 2008 to November 13, 2008, the Anna Maria Bridge will remain closed to navigation from 6 a.m. to 9 a.m., 2 p.m. to 5 p.m. and 8 p.m. to 5 a.m., at all other times, this bridge will open once an hour on the top of the hour.

* * * * *

Dated: March 12, 2008.
W.D. Lee,
Captain, U.S. Coast Guard, Commander Seventh Coast Guard District, Acting.

[FR Doc. E8-6483 Filed 3-28-08; 8:45 am]

BILLING CODE 4910-15-P